FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 23, 2015.

A. Federal Reserve Bank of Chicago (Colette A. Fried, Assistant Vice President) 230 South LaSalle Street, Chicago, Illinois 60690-1414:

1. The 2012 Clair J. Lensing Irrevocable Trust, Susan J. Elizondo GST-Exempt Under the Trust, James F. Lensing GST-Exempt Under the Trust, and Clair J. Lensing Jr. GST-Exempt Under the Trust, with Hills Bank & Trust Co., Hills, Iowa, as trustee; Susan Elizondo, Bettendorf, Iowa, James F. Lensing, Mason City, Iowa, and Clair J. Lensing Jr., Oelwein, Iowa, as beneficiaries, to join the Lensing Family Control Group and retain voting shares of Fayette Bancorporation, Marion, Iowa, and thereby indirectly retain voting shares of Citizens Savings Bank, Hawkeye, Iowa, Maynard Savings Bank, Maynard, Iowa, and Shell Rock Bancorporation, Shell Rock, Iowa, and thereby retain Security State Bank, Waverly, Iowa.

B. Federal Reserve Bank of Minneapolis (Jacquelyn K. Brunmeier, Assistant Vice President) 90 Hennepin Avenue, Minneapolis, Minnesota 55480-0291:

1. Robert W. Frei, Wagner, South Dakota; to join the Frei Family Group and to acquire voting shares of Commercial Holding Company, Wagner, South Dakota, and thereby indirectly acquire voting shares of Commercial State Bank, Wagner, South Dakota.

2. The Voting Trust Agreement Among Certain Shareholders of NW Bancshares, Inc., Chippewa Falls, Wisconsin (“Colbert Family Voting Trust”), B. James Colbert, Chippewa Falls, Wisconsin, and Bradford J. Colbert III, Plymouth, Minnesota, individually and as trustees of the Colbert Family Voting Trust, and the following parties to the Colbert Family Voting Trust, the B. James Colbert Exempt QSST Trust, the Thomas John Despins Exempt QSST Trust, the Penny D. Jurss Exempt QSST Trust, the Bradford J. Colbert III Exempt QSST Trust, the Dee Dee A. Korth Exempt QSST Trust, and the Thomas James Despins Exempt QSST Trust, all of Chippewa Falls Wisconsin, (B. James Colbert and Bradford J. Colbert III, trustees); Thomas John Despins, De Pere, Wisconsin, Penny D. Jurss, Wales, Wisconsin, and the B. James Colbert and Kathryn M. Colbert Revocable Trust dated September 25, 2001, Kathryn M. Colbert, individually and as trustee, both of Chippewa Falls, Wisconsin, as a group acting in concert, to acquire and retain voting shares of NW Bancshares, Inc., and thereby indirectly acquire and retain voting shares of The Northwestern Bank, both in Chippewa Falls, Wisconsin.

Board of Governors of the Federal Reserve System, November 3, 2015.
Michael J. Lewandowski,
Associate Secretary of the Board.

[FR Doc. 2015-28323 Filed 11-5-15; 8:45 am]

BILLING CODE 6210-01-P